DEPARTMENT OF ENERGY

Federal Energy Regulatory Commission

[Project No. 13123-002]

Eagle Crest Energy Company; Notice of Application Tendered for Filing With the Commission and Soliciting Additional Study Requests

July 7, 2009.

Take notice that the following hydroelectric application has been filed with the Commission and is available for public inspection.

a. Type of Application: Major License.

b. Project No.: P-13123-002.

c. Date filed: June 23, 2009.

d. Applicant: Eagle Crest Energy Company.

e. Name of Project: Eagle Mountain Pumped Storage Project.

f. Location: The Project would be located in two depleted mining pits in the Eagle Mountain Mine in Riverside County, California, near the Town of Desert Center, California, and would occupy Federal lands administered by the U.S. Bureau of Land Management and private lands owned by Kaiser Eagle Mountain, LLC.

g. Filed Pursuant to: Federal Power Act 16 U.S.C. 791(a)-825(r).

h. Applicant Contact: Stephen Lowe, One El Paseo West Building, Suite 204, 74-199 El Paseo Drive, Palm Desert, CA 92260.

i. FERC Contact: Kim A. Nguyen, 888 First Street, NE., Room 61-01, Washington, DC 20426, 202-502-6105, Kim.nguyen@ferc.gov.

j. Cooperating agencies: Federal, State, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to § 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: August 21, 2009. The deadline for the applicant's response to any such request is 30 days after the filing of the request.

All documents (original and eight copies) should be filed with: Kimberly D. Bose, Secretary, Federal Energy Regulatory Commission, 888 First Street, NE., Washington, DC 20426.

Additional study requests and requests for cooperating agency status may be filed electronically via the Internet in lieu of paper. The Commission strongly encourages electronic filings. See 18 CFR 385.2001(a)(1)(iii) and the instructions on the Commission's Web site (http://www.ferc.gov/docs-filing/ferconline.asp) under the “e-filing” link. For a simpler method of submitting text only comments, click on “Quick Comment.”

m. The application has not been accepted for filing and is not ready for environmental analysis at this time.

n. The project would consist of: (1) An 191-acre upper reservoir impounded by two diversion dams with a total storage capacity of 20,000 acre-feet; (2) an 163-acre lower reservoir with a total storage capacity of 21,900 acre-feet; (3) a 29-foot-diameter by 4,000-foot-long low pressure upper tunnel; (4) a surge tank with a 33-foot-diameter by 1,348-foot-long tunnel shaft; (5) a 29-foot-diameter by 1,560-foot-long high pressure lower tunnel; (6) a 33-foot-diameter by 6,835-foot-long tailrace tunnel; (7) a 72-foot-wide, 130-foot-high, and 360-foot-long underground powerhouse; (8) four reversible pump-turbine units at 325 megawatts each, for a total installed capacity of 1,300 megawatts; (9) a 28-foot-wide, 28-foot-high, by 6,625-foot-long access tunnel to the underground powerhouse; (10) a water supply pipeline ranging from 12-to 24-inch-diameter totaling 15.3 miles; (11) a 13.5-mile-long, 500-kilovolt transmission line connecting to a new Interconnection Collector Substation; and (12) appurtenant facilities. The average annual generation is estimated to be 22.2 gigawatt-hours.

o. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

p. With this notice, we are initiating consultation with the California State Historic Preservation Officer (SHPO), as required by 106, National Historic Preservation Act, and the regulations of the Advisory Council on Historic Preservation, 36, CFR, at 800.4.

q. Procedural schedule: The application will be processed according to the following Hydro Licensing Schedule. Revisions to the schedule will be made as appropriate.

Study Requests, Deficiency/Additional Information Letter (if needed) | July 2009.
Issue Acceptance Letter | November 2009.
Notice that Application is Ready for Environmental Analysis | November 2009.
Agency Comments, Terms, and Conditions | January 2010.
Applicant Reply Comments | March 2010.
Notice of the Availability of the Draft EIS | June 2010.
Notice of the Availability of the Final EIS | November 2010.

Kimberly D. Bose,
Secretary.

[FR Doc. E9-16561 Filed 7-10-09; 8:45 am]

BILLING CODE 6717-01-P